DEPARTMENT OF ENERGY

Federal Energy Regulatory Commission

Combined Notice of Filings # 1

June 23, 2006.

Take notice that the Commission received the following electric corporate filings:

Docket Numbers: EC06-134-000.

Applicants: Merrill Lynch Credit Products, LLC; Lake Road Holding Company, LLC; Lake Road Generating Company, L.P.

Description: Lake Road Holding Company, LLC, et al., submit a joint application for order authorizing disposition of jurisdictional facilities and request for waivers and expedited action.

Filed Date: 6/19/2006.

Accession Number: 20060621-0071.

Comment Date: 5 p.m. Eastern Time on Monday, July 10, 2006.

Take notice that the Commission received the following electric rate filings:

Docket Numbers: ER96-1551-017; ER01-615-013.

Applicants: Public Service Company of New Mexico.

Description: Public Service Co of New Mexico submits its proposed tariff sheets to reflect cost-based mitigation measures for the El Paso Electric control area.

Filed Date: 6/20/2006.

Accession Number: 20060622-0076.

Comment Date: 5 p.m. Eastern Time on Tuesday, July 11, 2006.

Docket Numbers: ER00-2186-002.

Applicants: PPL Maine, LLC.

Description: PPL Maine LLC submits its second triennial market power update report.

Filed Date: 6/19/2006.

Accession Number: 20060621-0074.

Comment Date: 5 p.m. Eastern Time on Monday, July 10, 2006.

Docket Numbers: ER05-524-001.

Applicants: Lincoln Generating Facility, LLC.

Description: Lincoln Generating Facility LLC submits an updated generation market power study and amended First Revised Volume No. 1 tariff.

Filed Date: 6/19/2006.

Accession Number: 20060621-0075.

Comment Date: 5 p.m. Eastern Time on Monday, July 10, 2006.

Docket Numbers: ER05-1475-005.

Applicants: Midwest Independent Transmission System Operator, Inc.

Description: Midwest Independent Transmission System Operator, Inc submits proposed revisions to Attachment X, Large Generator Interconnection Procedures and Large Generator Interconnection Agreement.

Filed Date: 6/20/2006.

Accession Number: 20060621-0149.

Comment Date: 5 p.m. Eastern Time on Tuesday, July 11, 2006.

Docket Numbers: ER06-738-002; ER06-739-002.

Applicants: Cogen Technologies Linden Venture, L.P.; East Coast Power Linden Holding, LLC.

Description: Cogen Technologies Linden Venture LP et al supplement their petition requesting acceptance for filing their respective market-based rate schedules, waiver of certain FERC regulations.

Filed Date: 6/20/2006.

Accession Number: 20060622-0097.

Comment Date: 5 p.m. Eastern Time on Tuesday, July 11, 2006.

Docket Numbers: ER06-1039-001.

Applicants: Freedom Partners, LLC.

Description: Freedom Partners, LLC dba Freedom Energy Partners submits an application for Order Accepting Initial Market Base Rate Tariff and Granting Certain Waivers and Blanket Approvals.

Filed Date: 6/19/2006.

Accession Number: 20060621-0080.

Comment Date: 5 p.m. Eastern Time on Monday, July 10, 2006.

Docket Numbers: ER06-1096-000.

Applicants: Pacific Gas and Electric Company.

Description: Pacific Gas and Electric Co submits an Notice of Termination of the Revised Control Area and Transmission Service Agreement with Dynegy Power Services, Inc.

Filed Date: 6/2/2006.

Accession Number: 20060608-0618.

Comment Date: 5 p.m. Eastern Time on Friday, June 30, 2006.

Docket Numbers: ER06-1142-000.

Applicants: Pacific Gas & Electric Company.

Description: Pacific Gas and Electric Co submits an executed Agreement dated, 5/4/06 with the State of California Department of Water Resources.

Filed Date: 6/19/2006.

Accession Number: 20060620-0314.

Comment Date: 5 p.m. Eastern Time on Monday, July 10, 2006.

Docket Numbers: ER06-1146-000.

Applicants: PJM Interconnection, LLC.

Description: PJM Interconnection, LLC submits its Interconnection Service Agreement with Brookfield Power Piney & Deep Creek LLC and Pennsylvania Elec. Power Co.

Filed Date: 6/16/2006.

Accession Number: 20060620-0315.

Comment Date: 5 p.m. Eastern Time on Friday, July 7, 2006.

Docket Numbers: ER06-1147-000.

Applicants: Liberty Power Maine LLC.

Description: Liberty Power Maine LLC submits a Petition for acceptance of the Initial Rate Schedule, Waivers and Blanket Authority.

Filed Date: 6/19/2006.

Accession Number: 20060620-0184.

Comment Date: 5 p.m. Eastern Time on Thursday, June 29, 2006.

Docket Numbers: ER06-1148-000.

Applicants: Liberty Power New Jersey LLC.

Description: Liberty Power New Jersey, LLC submits a Petition for acceptance of the Initial Rate Schedule, Waivers and Blanket Authority.

Filed Date: 6/19/2006.

Accession Number: 20060620-0185.

Comment Date: 5 p.m. Eastern Time on Thursday, June 29, 2006.

Docket Numbers: ER06-1149-000.

Applicants: Liberty Power Rhode Island LLC.

Description: Liberty Power Rhode Island LLC submits a petition for acceptance of the initial rate schedule, waivers and blanket authority.

Filed Date: 6/19/2006.

Accession Number: 20060620-0186.

Comment Date: 5 p.m. Eastern Time on Thursday, June 29, 2006.

Docket Numbers: ER06-1150-000.

Applicants: Liberty Power Massachusetts LLC.

Description: Liberty Power Massachusetts, LLC submits a petition for acceptance of initial rate schedule (FERC Electric Rate Schedule 1), waivers and blanket authority.

Filed Date: 6/19/2006.

Accession Number: 20060620-0187.

Comment Date: 5 p.m. Eastern Time on Thursday, June 29, 2006.

Docket Numbers: ER06-1151-000.

Applicants: Liberty Power Illinois LLC.

Description: Liberty Power Illinois LLC submits a Petition for acceptance of the Initial Rate Schedule, Waivers and Blanket Authority.

Filed Date: 6/19/2006.

Accession Number: 20060620-0188.

Comment Date: 5 p.m. Eastern Time on Thursday, June 29, 2006.

Docket Numbers: ER06-1152-000.

Applicants: Celeren Corporation.

Description: Celeren Corp submits a petition for acceptance of initial tariff (FERC Electric Tariff, Original Volume 1), waivers and blanket authority.

Filed Date: 6/19/2006.

Accession Number: 20060620-0189.

Comment Date: 5 p.m. Eastern Time on Monday, July 10, 2006.

Docket Numbers: ER06-1153-000.

Applicants: Indiana Michigan Power Company.

Description: Indiana Michigan Power Co submits a Cost-Based Formula Rate Agreement for Full Requirements Electric Service and the City of Paw Paw, Michigan.

Filed Date: 6/19/2006.

Accession Number: 20060621-0072.

Comment Date: 5 p.m. Eastern Time on Monday, July 10, 2006.

Docket Numbers: ER06-1155-000.

Applicants: Liberty Power Montana LLC.

Description: Liberty Power Montana LLC submits a petition of acceptance of the Initial Rate Schedule, Waivers, and Blanket Authority.

Filed Date: 6/20/2006.

Accession Number: 20060621-0084.

Comment Date: 5 p.m. Eastern Time on Thursday, June 29, 2006.

Docket Numbers: ER06-1156-000.

Applicants: Liberty Power Delaware LLC.

Description: Liberty Power Delaware LLC submits a Petition of acceptance of the Initial Rate Schedule, Waivers, and Blanket Authority.

Filed Date: 6/20/2006.

Accession Number: 20060621-0083.

Comment Date: 5 p.m. Eastern Time on Thursday, June 29, 2006.

Docket Numbers: ER06-1157-000.

Applicants: Liberty Power Michigan LLC.

Description: Liberty Power Michigan LLC submits a Petition of acceptance of the Initial Rate Schedule, Waivers, and Blanket Authority.

Filed Date: 6/20/2006.

Accession Number: 20060621-0082.

Comment Date: 5 p.m. Eastern Time on Thursday, June 29, 2006.

Docket Numbers: ER06-1158-000.

Applicants: Liberty Power Virginia LLC.

Description: Liberty Power Virginia LLC submits a Petition of acceptance of the Initial Rate Schedule, Waivers, and Blanket Authority.

Filed Date: 6/20/2006.

Accession Number: 20060621-0081.

Comment Date: 5 p.m. Eastern Time on Thursday, June 29, 2006.

Docket Numbers: ER06-1159-000.

Applicants: Liberty Power Arizona LLC.

Description: Liberty Power Arizona, LLC submits a petition for acceptance of the initial rate schedule, waivers and blanket authority.

Filed Date: 6/20/2006.

Accession Number: 20060621-0148.

Comment Date: 5 p.m. Eastern Time on Thursday, June 29, 2006.

Docket Numbers: ER06-1160-000.

Applicants: UBS AG.

Description: UBS AG submits amendments to its market-based rate tariff, FERC Electric Rate Schedule 1, effective 6/21/06.

Filed Date: 6/20/2006.

Accession Number: 20060621-0147.

Comment Date: 5 p.m. Eastern Time on Tuesday, July 11, 2006.

Docket Numbers: ER06-1161-000.

Applicants: Liberty Power Oregon LLC.

Description: Liberty Power Oregon LLC submits a Petition for acceptance of Initial Rate Schedule, Waivers and Blanket Authority under ER06-1161.

Filed Date: 6/20/2006.

Accession Number: 20060621-0150.

Comment Date: 5 p.m. Eastern Time on Thursday, June 29, 2006.

Docket Numbers: ER06-1162-000.

Applicants: Select Energy New York, Inc.

Description: Select Energy New York, Inc submits a Notice of Succession to advise the Commission of a transfer of operational control following its acquisition by Hess Corporation.

Filed Date: 6/20/2006.

Accession Number: 20060621-0151.

Comment Date: 5 p.m. Eastern Time on Tuesday, July 11, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10314 Filed 6-29-06; 8:45 am]

BILLING CODE 6717-01-P